PRESIDIO TRUST

Notice of Public Meeting

AGENCY: The Presidio Trust.

ACTION: Notice of public meeting.

SUMMARY: In accordance with the Presidio Trust Act, and in accordance with the Presidio Trust's bylaws, notice is hereby given that a public meeting of the Presidio Trust Board of Directors will be held commencing 5:00 p.m. on October 18, 2018, at the Officers' Club, 50 Moraga Avenue, Presidio of San Francisco, California.

The purposes of this meeting are to: Provide the Board Chair's report; provide the Chief Executive Officer's report; hold a National Environmental Policy Act scoping workshop for the Fort Winfield Scott project; and receive public comment on these and other matters pertaining to Trust business.

Individuals requiring special accommodation at this meeting, such as needing a sign language interpreter, should contact Mollie Matull at 415.561.5300 prior to October 9, 2018.

DATES: The meeting will begin at 5:00 p.m. on October 18, 2018.

ADDRESSES: The meeting will be held at the Officers' Club, 50 Moraga Avenue, Presidio of San Francisco.

FOR FURTHER INFORMATION CONTACT: Nancy J. Koch, General Counsel, the Presidio Trust, 103 Montgomery Street, P.O. Box 29052, San Francisco, California 94129-0052, Telephone: 415.561.5300.

Dated: September 13, 2018.
Nancy J. Koch,
General Counsel.

[FR Doc. 2018-20492 Filed 9-19-18; 8:45 am]

BILLING CODE 4310-4R-P